DEPARTMENT OF THE INTERIOR

Bureau of Land Management

[14XL LLIDI00000-L10200000-PH0000-LXSSD0090000 241A 4500063890]

Notice of Public Meeting, Idaho Falls District Resource Advisory Council Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The Idaho Falls District RAC will meet in Salmon, Idaho, September 9-10, 2014 for a two-day meeting at the Salmon Field Office, 1206 S. Challis, Salmon, Idaho. The first day will begin at 10:30 a.m. and adjourn at 4:30 p.m. The second day will begin at 8:30 a.m. and adjourn around 3 p.m.

FOR FURTHER INFORMATION CONTACT: Sarah Wheeler, RAC Coordinator, Idaho Falls District, 1405 Hollipark Dr., Idaho Falls, ID 83401. Telephone: (208) 524-7550. Email: sawheeler@blm.gov.

SUPPLEMENTARY INFORMATION: The 15-member Council advises the Secretary of the Interior, through the BLM, on a variety of planning and management issues associated with public land management in the BLM Idaho Falls District, which covers eastern Idaho.

Items on the agenda include: An overview of current issues affecting the BLM, public comment period, the High Divide project, Sharkey Hot Springs Update, National Wild Horse and Burro RAC information, Panther Greek Geothermal Project Update and a formal discussion on the Upper Salmon Basin Watershed Project. At 8:30 a.m. on September 10, the RAC will meet at the Public Land Center and depart for a tour of Discovery Hill. The group will discuss a variety of issues impacting the area. Following Discovery Hill, the group will head south towards Tendoy to tour the Upper Salmon Basin Watershed and view creek restoration projects including Lee Creek. Agenda items and location may change due to weather and other environmental circumstances.

All meetings are open to the public. The public may present written comments to the Council. Each formal Council meeting will also have time allocated for hearing public comments (10:30-11 a.m. on September 9). Depending on the number of persons wishing to comment and time available, the time for individual oral comments may be limited. Individuals who plan to attend and need special assistance, such as sign language interpretation, tour transportation or other reasonable accommodations, should contact the BLM as provided below.

Dated: July 23, 2014.
Sarah Wheeler,
RAC Coordinator, Idaho Falls District.

[FR Doc. 2014-18039 Filed 7-30-14; 8:45 am]

BILLING CODE 4310-GG-P